DEPARTMENT OF THE INTERIOR

Minerals Management Service

Outer Continental Shelf (OCS) Policy Committee of the Minerals Management Advisory Board; Notice and Agenda for Meeting

AGENCY: Minerals Management Service, Interior.

ACTION: Notice of Meeting.

SUMMARY: The OCS Policy Committee of the Minerals Management Advisory Board will meet at the Wyndham San Diego at Emerald Plaza in San Diego, California.

DATES: Wednesday, October 31, 2001, from 8:30 a.m. to 5:00 p.m. and Thursday, November 1, 2001, from 8:30 a.m. to 4:00 p.m.

ADDRESSES: The Wyndham San Diego at Emerald Plaza, 400 West Broadway, San Diego, California 92101-3504, telephone (619) 239-4500.

FOR FURTHER INFORMATION CONTACT: Ms. Jeryne Bryant at Minerals Management Service, 381 Elden Street, Mail Stop 4001, Herndon, Virginia 20170-4187. She can be reached by telephone at (703) 787-1211 or by electronic mail at jeryne.bryant@mms.gov.

SUPPLEMENTARY INFORMATION: The OCS Policy Committee represents the collective viewpoint of coastal States, environmental interests, industry and other parties involved with the OCS Program. It provides policy advice to the Secretary of the Interior through the Director of the MMS on all aspects of leasing, exploration, development, and protection of OCS resources.

The Agenda for October 31st Will Cover the Following Principal Subjects

Status Report. This presentation will provide an update on the status of the resolutions passed at the May 2001 meeting and the draft proposed 5-Year Oil and Gas Leasing Program for 2002-2007.

Oil and Gas Supply/Demand Update. This presentation will provide an update on the oil and gas supply/demand situation since May.

National Energy Policy. This presentation will address issues that are emerging as the Administration implements the national energy policy, OCS related legislation, and new issues throughout the country.

Hard Minerals Update. This presentation will provide an update on subcommittee activities and other pertinent hard minerals information.

Reemergence of Liquefied Natural Gas (LNG). This presentation will address alternative ways of getting natural gas to the consumer, Calypso gas pipeline, reactivation of LNG facilities, etc.

Access for Offshore Energy Development. This presentation will address the Great Lakes drilling proposal to lift moratorium, eastern/western Canadian offshore studies on lifting the moratorium, and the States' perspective on why moratoria is in place.

Alternative Energy—Related Uses of the OCS. This presentation will address alternative energy related uses of the OCS such as floating LNG facilities, proposed offshore LNG terminals, offshore wind farms, etc.

The Agenda for November 1st Will Cover the Following Principal Subjects

Congressional/Legislative Update. This presentation will provide an update on current congressional issues related to the OCS.

MMS Regional Updates. The Regional Directors will highlight activities off the California and Alaska coasts and the Gulf of Mexico.

OCS Scientific Committee Update. This presentation will provide an update on the activities of the Scientific Committee. It will also highlight the activities that are related to energy issues/concerns, ocean issues, hard minerals activities, and any other topics that are relevant to both Committees.

New Technology. This presentation will address the positive technological steps that have been taken to reduce the environmental footprint of oil and gas development.

Ocean and Coastal Policy Initiatives. This presentation will address ocean and coastal policy, directives, and initiatives; the Ocean Commission; the Coastal Zone Management review; the oil in the sea study; marine protected areas; and any other pertinent topics.

The meeting is open to the public. Approximately 100 visitors can be accommodated on a first-come-first-served basis.

Upon request, interested parties may make oral or written presentations to the OCS Policy Committee. Such requests should be made no later than October 12, 2001, to Jeryne Bryant. Requests to make oral statements should be accompanied by a summary of the statement to be made. Please see FOR FURTHER INFORMATION CONTACT section for address and telephone number.

Minutes of the OCS Policy Committee meeting will be available for public inspection and copying at the MMS in Herndon, Virginia.

Authority: Federal Advisory Committee Act, Pub. L. No. 92-463, 5 U.S.C. Appendix 1, and the Office of Management and Budget's Circular No. A-63, Revised.

Dated: September 21, 2001.
Carolita U. Kallaur,
Associate Director for Offshore Minerals Management.

[FR Doc. 01-24502 Filed 9-28-01; 8:45 am]

BILLING CODE 4310-MR-P